National Highway Traffic Safety Administration

[NHTSA Docket No. NHTSA-2006-26143]

National Emergency Medical Services Advisory Council to the Secretary of Transportation

AGENCY: National Highway Traffic Safety Administration (NHTSA), DOT.

ACTION: Notice of establishment of an advisory committee.

SUMMARY: The Secretary of Transportation announces the establishment of a National Emergency Medical Services (EMS) Advisory Council (NEMSAC) to provide advice and recommendations regarding EMS matters to the U.S. Department of Transportation (DOT), National Highway Traffic Safety Administration (NHTSA). NHTSA's Office of Emergency Medical Services will serve as sponsor of the Advisory Council for the Secretary. The purpose of this notice is to inform interested parties of the establishment of NEMSAC and invite the submission to NHTSA of nominations/applications for membership, as well as comments on the strategies or issues that should be considered by NEMSAC.

DATES: Comments and applications or nominations for membership on NEMSAC must be received February 16, 2007.

FOR FURTHER INFORMATION CONTACT: Mr. Drew Dawson, Director, NHTSA Office of Emergency Medical Services, (202) 366-9966 or via e-mail at drew.dawson@dot.gov; or Ms. Allison Rusnak, Office of the Chief Counsel, (202) 366-1834 or via e-mail at allison.rusnak@dot.gov, 400 7th Street, SW., Washington, DC 20590. Office hours are from 7:45 a.m. to 4:15 p.m. EST, Monday through Friday, except Federal holidays.

SUPPLEMENTARY INFORMATION:

Electronic Access

You may submit or retrieve comments online through the Document Management System (DMS) at: http://dms.dot.gov/submit. The DMS is available 24 hours each day, 365 days each year. Electronic submission and retrieval help and guidelines are available under the help section of the Web site.

An electronic copy of this document may be downloaded from the Federal Register's home page at http://www.archives.gov and the Government Printing Office's database at http://www.access.gpo.gov/nara.

Anyone is able to search the electronic form of all comments received into any of our dockets by the name of the individual submitting the comment (or signing the comment, if submitted on behalf of an association, business, labor union, etc.). You may review DOT's complete Privacy Act Statement in a Federal Register published on April 11, 2000 (70 FR 19477), or you may visit http://dms.dot.gov.

Please note that even after the comment closing date, we will continue to file relevant information in the docket as it becomes available. Further, some people may submit late comments and we recommend that you periodically check the docket for new material. We will consider late comments [75 days from publication].

Background

The National Emergency Medical Services Advisory Council will serve as a forum to provide to NHTSA advice and recommendations on a broad range of issues related to EMS. The DOT has determined that the establishment of NEMSAC falls under the terms of the Federal Advisory Committee Act (FACA), 5 U.S.C. App. II.

A. Notice of Establishment of an Advisory Council

In accordance with the requirements of FACA, an agency of the Federal Government cannot establish or utilize a group of people in the interest of obtaining consensus advice or recommendations unless that group is chartered as a Federal advisory committee. The purpose of this notice is to announce the establishment of an advisory committee to provide NHTSA advice and recommendations regarding a broad range of EMS issues. The Secretary has determined that the establishment of NEMSAC is necessary and in the public interest.

B. Name of Committee

National Emergency Medical Services Advisory Council.

C. Purpose and Objective

The NEMSAC will be a nationally recognized council of EMS representatives and consumers to provide advice and recommendations regarding EMS to NHTSA. The issues that NEMSAC will consider include: National EMS needs assessment and strategic planning; development of standards, guidelines, benchmarks, and data collection relating to EMS; development of methods for improving community-based EMS; strengthening EMS systems through enhanced workforce development, education, training, exercises, equipment, medical oversight; improved coordination and support of EMS activities among Federal programs; and other issues or topics as determined by NHTSA.

The NEMSAC does not exercise program management or regulatory development responsibilities, and makes no decisions directly affecting the programs on which it provides advice. The NEMSAC provides a forum for the development, consideration, and communication of information from a knowledgeable and independent perspective of a strategy for advancing EMS systems nationwide.

D. Balanced Membership Plans

Advisory council members shall represent a cross-section of the diverse agencies, organizations, and individuals involved in EMS activities and programs in the U.S. The NEMSAC shall be composed of not more than 26 members, each of whom shall be appointed by the Secretary of Transportation. Twenty-four of these members will represent the perspectives of particular components of the EMS community. The Council's broad-based membership will assure that it has sufficient EMS system expertise and geographic and demographic diversity to accurately reflect the EMS community as a whole. NHTSA seeks applications and nominations for members within the EMS community from a wide array of national organizations and the public. Members will be selected for their individual expertise and to reflect a balanced representation of interests from across the EMS community, but no member will represent a specific organization.

To the extent practical, the final council membership shall assure representation from the following:

➢ Volunteer EMS

➢ Fire-based (career) EMS

➢ Private (career non-fire) EMS

➢ Hospital-based EMS

➢ Tribal EMS

➢ Air Medical EMS

➢ Local EMS service director/administrators

➢ EMS Medical Directors

➢ Emergency Physicians

➢ Trauma Surgeons

➢ Pediatric Emergency Physicians

➢ State EMS Directors

➢ State Highway Safety Directors

➢ EMS Educators

➢ Public Safety Call-taker/Dispatcher (911)

➢ EMS Data Managers

➢ EMS Researchers

➢ Emergency Nurses

➢ Hospital Administration

➢ Public Health

➢ Emergency Management

➢ State Homeland Security Directors

➢ Consumers (not directly affiliated with an EMS or healthcare organization)

➢ State or local legislative bodies (e.g. city/county councils; state legislatures)

This document gives notice to potential participants of the process and affords them the opportunity to apply for membership on NEMSAC. The application procedure is set forth below. In addition, NHTSA invites commentors to suggest or nominate potential members.

The NHTSA is aware that there are many more potential organizations and participants than there are membership positions on NEMSAC. It is important to recognize that interested parties who are not selected for NEMSAC membership can make valuable contributions to the work of NEMSAC in several ways. For example, the person or organization may request to be placed on the NEMSAC mailing list, submit written comments to the advisory council, and attend NEMSAC meetings. Time will be set aside during each meeting for the purpose of permitting public comment, consistent with NEMSAC's need for sufficient time to complete its deliberations.

E. Applications for Membership

Each application for membership or nomination to the advisory council must include the following:

(1) A brief resume or letter (no more than one page) demonstrating the applicant or nominee's knowledge of EMS projects or programs and why he or she is interested in serving on the advisory council (please note, resumes or letters will be posted in the public docket and therefore should not contain personal information such as date of birth, etc).

(2) The name of the applicant or nominee and which interest(s)/component(s) of the EMS community (identified above in Section D) he or she would represent.

(3) Evidence that the applicant or nominee represents those interest(s)/component(s) of the EMS community (identified above in Section D).

(4) A written commitment that the applicant or nominee would participate in good faith. Since all comments and/or applications for membership or nominations for membership on the advisory council will be posted on the Public Docket, we encourage you to include only that information you are willing to provide for the public docket and submit your application electronically using the docket number provided on this notice through the DOT online Document Management System found at: http://dms.dot.gov/submit.

Every effort will be made to select advisory council members who are objective. A balanced membership is needed and weight will be given to a variety of factors including, but not limited to, geographical distribution, gender, minority status, organization, and expertise.

Members of the advisory council may receive travel and per diem, as allowed by Federal regulations and U.S. Department of Transportation policy.

F. Duration

Two years from the establishment of the advisory council charter.

Issued on: December 13, 2006.
Mary E. Peters,
Secretary.

[FR Doc. E6-21522 Filed 12-15-06; 8:45 am]

BILLING CODE 4910-59-P